DEPARTMENT OF JUSTICE

Office of Justice Programs

[OMB Number 1121-0309]

Agency Information Collection Activities; Proposed Collection; Comments Requested

ACTION: 30-Day Notice of Information Collection Under Review: International Terrorism Victim Compensation Program Application.

The Department of Justice (DOJ), Office of Justice Programs (OJP) will be submitting the following information collection request to the Office of Management and Budget (OMB) for review and approval in accordance with the Paperwork Reduction Act of 1995. The proposed information collection is published to obtain comments from the public and affected agencies. This proposed information collection was previously published in the Federal Register Volume 75, Number 14, page 3758, on January 22, 2010, allowing for a 60 day comment period.

The purpose of this notice is to allow for an additional 30 days for public comment until April 23, 2010. This process is conducted in accordance with 5 CFR 1320.10.

Written comments and/or suggestions regarding the items contained in this notice, especially the estimated public burden and associated response time, should be directed to the Office of Management and Budget, Office of Information and Regulatory Affairs, Attention Department of Justice Desk Officer, Washington, DC 20503. Additionally, comments may be submitted to OMB via facsimile to (202) 395-5806.

Written comments and suggestions from the public and affected agencies concerning the proposed collection of information are encouraged.

Your comments should address one or more of the following points:

(1) Evaluate whether the proposed collection of information is necessary for the proper performance of the functions of the agency, including whether the information will have practical utility;

(2) Evaluate the accuracy of the agencies estimate of the burden of the proposed collection of information, including the validity of methodology and assumptions used;

(3) Enhance the quality, utility, and clarity of the information to be collected; and,

(4) Minimize the burden of the collection of information on those who are to respond, including the use of appropriate automated, electronic, mechanical, or other technological collection techniques or other forms of information technology, e.g., permitting electronic submission of responses.

Overview of this Information Collection:

(1) Type of Information Collection: Reinstatement, with no change, of a previously approved collection for which approval has expired.

(2) Title of Form/Collection: International Terrorism Victim Expense Reimbursement Program (ITVERP) Application.

(3) Agency form number, if any, and the applicable component of the Department of Justice sponsoring the collection: Form Number: The Office of Management and Budget Number for the certification form is 1121-0309. The Office for Victims of Crime, Office of Justice Programs, United States Department of Justice is sponsoring the collection.

(4) Affected public who will be asked or required to respond, as well as a brief abstract: Primary: The form is completed by U.S. nationals and U.S. government employees who become victims of acts of international terrorism that occur outside the United States. Applicants seeking compensation from OVC for expenses associated with their victimization will be required to submit said form. The form will be used to collect necessary information on expenses incurred by the applicant, as well as other pertinent information, and will be used by OVC to make an award determination.

(5) An estimate of the total number of respondents and the amount of time estimated for an average to respond: The total hour burden to complete the forms is 1,500 annual burden hours.

(6) An estimate of the total public burden (in hours) associated with the collection: There are approximately 1,500 hours annual burden associated with this information collection.

If additional information is required contact: Lynn Bryant, Department Clearance Officer, Policy and Planning Staff, Justice Management Division, United States Department of Justice, 601 D Street NW., Patrick Henry Building, Suite 1600, NW., Washington, DC 20530.

Dated: March 18, 2010.
Lynn Bryant,
Department Clearance Officer, United States Department of Justice.

[FR Doc. 2010-6440 Filed 3-23-10; 8:45 am]

BILLING CODE 4410-18-P